DEPARTMENT OF HOMELAND SECURITY

Coast Guard

[CGD01-03-045]

Closure of Coast Guard Station (Small) Rockaway

AGENCY: Coast Guard, DHS.

ACTION: Notice of meeting.

SUMMARY: The U.S. Coast Guard (USCG) and the National Parks Service (NPS) are holding a Public Information Meeting on Tuesday, May 27, 2003, at 5:30 p.m. at the Chapel at Fort Tilden, Rockaway Point Boulevard, Rockaway, New York to present information relating to the NPS plans to expand Gateway National Recreation Area by developing the property currently managed by the USCG as Station (Small) Rockaway. The meeting will be open to the public.

DATES: The United States Coast Guard and National Park Service will conduct this meeting on Tuesday, May 27, 2003, from 5:30 p.m. to 10 p.m. The meeting may close early if all business is finished. Written material and requests to make oral presentations should reach the Coast Guard on or before May 27, 2003. Requests to have a copy of your material distributed to each member of the committee should reach the Coast Guard on or before May 23, 2003.

ADDRESSES: The meeting will be held in the Chapel at Fort Tilden, Rockaway Point Boulevard, Rockaway, NY. Send written material and requests to make oral presentations to CDR Peter Sammis, Marine Response Division (CGD01-03-045), Coast Guard Activities New York, 212 Coast Guard Drive, room 210, Staten Island, NY 10305. This notice is available on the Internet at http://www.harborops.com.

FOR FURTHER INFORMATION CONTACT: CDR Peter Sammis, Chief, Marine Response Division, telephone 718-354-4102, fax 718-354-4125.

SUPPLEMENTARY INFORMATION: Notice of the meeting is given under the Federal Advisory Committee Act, 5 U.S.C. App. 2.

Agenda of Meeting

The agenda includes the following:

(1) NPS plans for establishment of public ferry service, rehabilitation of the main station building for possible use as a small hotel/bed and breakfast facility, and development of other waterfront facilities including at least one restaurant, all to serve the communities located on the Rockaway peninsula and around Jamaica Bay. NPS plans also include permanent facilities for the U.S. Park Police and cooperating law enforcement and maritime rescue agencies.

(2) The Coast Guard's plans of consolidating its New York operations to improve efficiency in overall operations and response to maritime emergencies in the New York metropolitan area including Jamaica Bay. In order to complete this consolidation, the one USCG small boat assigned at Rockaway would be moved to USCG Station New York on Staten Island, NY. The USCG would close Station Rockaway and transfer ownership of the Rockaway property to the NPS. The USCG would continue routine patrols of Jamaica Bay/Rockaway area waters, along with other federal, state and local law enforcement and rescue agencies.

Procedural

The meeting is open to the public. Please note that the meeting may close early if all business is finished. At the Coast Guard's discretion, members of the public may make oral presentations during the meeting. If you would like to make an oral presentation at the meeting, please notify CDR Sammis no later than May 27, 2003. Written material for distribution at the meeting should reach the Coast Guard no later than May 27, 2003. If you would like a copy of your material distributed to each member of the committee in advance of the meeting, please submit 25 copies to CDR Sammis no later than May 27, 2003. Should you be interested in this matter but unable to attend the meeting, you may submit written comments to: CDR Peter Sammis, Marine Response Division (CGD01-03-045), Coast Guard Activities New York, 212 Coast Guard Drive, Staten Island, NY 10305 or Mr. Chris Soller, Gateway National Recreation Area, Headquarters Building 69, Floyd Bennett Field, Brooklyn, NY 11234. All comments must be received no later than June 3, 2003.

Information on Services for Individuals With Disabilities

For information on facilities or services for individuals with disabilities or to request special assistance at the meeting, contact CDR Sammis as soon as possible.

Dated: May 16, 2003.
C.E. Bone,
Captain, U.S. Coast Guard, Captain of the Port, New York.

[FR Doc. 03-13187 Filed 5-27-03; 8:45 am]

BILLING CODE 4910-15-P